DEPARTMENT OF HOUSING AND URBAN DEVELOPMENT

[Docket No. FR-5831-N-33]

Notice of Emergency Approval Submission of Proposed Information Collection to OMB; Emergency Comment Request Pay for Success Demonstration Application

AGENCY: Office of the Chief Information Officer, HUD.

ACTION: Notice.

SUMMARY: In accordance with the Paperwork Reduction Act of 1995, HUD has requested from the Office of Management and Budget (OMB) emergency approval of the information collection described in this notice.

DATES: Comments Due Date: July 1, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Anna Guido at Anna_Guido@hud.gov or telephone 202-402-5535. Persons with hearing or speech impairments may access this number through TTY by calling the toll-free Federal Relay Service at (800) 877-8339. This is not a toll-free number. Copies of available documents submitted to OMB may be obtained from Ms. Guido.

SUPPLEMENTARY INFORMATION: This notice informs the public that HUD has submitted to OMB a request for approval of the information collection described in Section A.

A. Overview of Information Collection

Title of Information Collection: Pay for Success Demonstration Application.

OMB Approval Number: 2506-New.

Type of Request New collection.

Form Number: SF 424, HUD SF 424 SUPP (if applicable), HUD-2993 (if applicable), HUD-96011 (if applicable), HUD-2880, SF-LLL.

Description of the need for the information and proposed use: The information to be collected will be used to rate applications, to determine eligibility for the PFS Demonstration and to establish grant amounts. Applicants, which must be public or private nonprofit organizations, will respond to narrative prompts to demonstrate their experience and expertise in PFS financing and to describe their intended program design, both for PFS Demonstration activities, such as conducting a feasibility assessment and structuring a PFS transaction, as well as deal implementation activities, such as administering a PSH intervention, tracking outcomes, and making success payments.

Respondents (describe): Public or private nonprofit organizations.

Estimated Number of Respondents: 9 applicants.

Estimated Number of Responses: 9 applicants.

Frequency of Response: 1 response per year.

Average Hours per Response: 22.21 hours.

Total Estimated Burdens: $194.68.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: June 19, 2015.
Anna Guido,
Department Reports Management Officer, Office of the Chief Information Officer.

[FR Doc. 2015-15534 Filed 6-23-15; 8:45 am]

BILLING CODE 4210-67-P